DEPARTMENT OF THE INTERIOR

Fish and Wildlife Service

[FWS-R6-ES-2010-N175; 61130-1115-0000 F2]

Montana Department of Natural Resources and Conservation Final Habitat Conservation Plan and Final Environmental Impact Statement

AGENCY: Fish and Wildlife Service, Interior.

ACTION: Notice of availability.

SUMMARY: We, the U.S. Fish and Wildlife Service (Service), announce that we have received from the Montana Department of Natural Resources and Conservation (DNRC) a Final Habitat Conservation Plan (HCP) and prepared a Final Environmental Impact Statement (Final EIS). The purpose of the HCP is to provide measures for DNRC's forest management activities on State forested trust lands to minimize and mitigate to the maximum extent practicable the impacts of authorized incidental take under the Endangered Species Act of 1973, as amended (Act).

DATES: The Final HCP/EIS will be released for public review on September 17, 2010. We will sign a Record of Decision no sooner than 30 days after the publication of the Environmental Protection Agency (EPA) notice of the Final EIS in the Federal Register.

FOR FURTHER INFORMATION CONTACT: For further information, or to receive the documents on CD-ROM, please contact Kathleen Ports, at 406-542-4330, or Tim Bodurtha, at 406-758-6882.

SUPPLEMENTARY INFORMATION: We have received the Final HCP and prepared the Final EIS for DNRC's forest management activities on State forested trust lands to minimize and mitigate the impacts of authorized incidental take under the Act (16 U.S.C. 1531 et seq.).

We are the lead agency for issuance of the incidental take permit (Permit). On June 26, 2009, we published our notice of receipt of a Permit application, Draft HCP, and Draft Implementation Agreement and notice of availability of the Draft EIS in the Federal Register (74 FR 30617). We are now releasing for public review the Final HCP and the Final HCP/EIS, which includes our responses to public comments and changes to the documents based on public comments and recent scientific data. We furnish this notice to allow other agencies and the public an opportunity to review the revised documents and our responses to comments. For locations to review the documents, please see the SUPPLEMENTARY INFORMATION section below. We are providing 30 days to allow the public sufficient time to review these final documents.

Availability of Documents

You may review the documents by requesting copies on CD-ROM from us (see FOR FURTHER INFORMATION CONTACT section). The documents are also available on the Internet at http://www.dnrc.mt.gov/HCP/default.asp or at the following libraries:

• Missoula Public Library, 301 East Main Street, Missoula, Montana 59802-4799; (406) 721-2665.

• Flathead County Public Library, 247 First Avenue East, Kalispell, Montana 59901-4560; (406) 758-5819.

• Lincoln County Public Library, 220 W. 6th Street, Libby, Montana 59923-1898; (406) 293-2778.

• Lewis and Clark Library, 120 South Last Chance Gulch, Helena, Montana 59601-4165; (406) 447-1690.

Persons needing reasonable accommodations to access the public review locations should contact Kathleen Ports or Tim Bodurtha, (see FOR FURTHER INFORMATION CONTACT section). To allow sufficient time to process requests, please call no later than 1 week before the desired review time. Information regarding the proposed action is available in alternative formats upon request.

Background

The HCP covers timber harvest and associated activities on approximately 548,500 acres (2, 220m²) of trust lands in western Montana, overseen by three of the six DNRC land offices. The DNRC manages scattered parcels and blocks of land in the Swan River State Forest and Stillwater State Forest.

The DNRC prepared a 50-year HCP to address impacts from incidental take of grizzly bear (Ursus arctos horribilis), Canada lynx (Lynx canadensis), and bull trout (Salvelinus confluentus), which are listed as threatened under the Act. Unlisted species included in DNRC's HCP and which would receive incidental take authorization, should they be listed during the term of the HCP, are the westslope cutthroat trout (Oncorhynchus clarki lewisi) and Columbia redband trout (Oncorhynchus mykiss gairdneri).

Substantive modifications to the proposed HCP, as well as any associated modifications to the EIS, were made based on: (1) Public comments on the 2009 Draft EIS/HCP public comment period; (2) information from Canada lynx researcher, Dr. John Squires, U.S. Forest Service, whose ongoing research was deemed relevant to finalizing the HCP/EIS; and (3) recent guidance from the Council on Environmental Quality and recent Service policy on how to address climate change in National Environmental Policy Act (NEPA) documents. The Service and DNRC made substantive modifications to lynx and aquatic conservation commitments in the Final HCP/EIS in light of public comment and recent research.

In the Final HCP, DNRC increased the acres subject to lynx conservation commitments, removed the commitment to retain a minimum of two piles of woody debris per square mile as potential lynx den sites, and changed the foraging commitment from maintaining 20 percent of a combination of winter and summer foraging habitat to maintaining 20 percent of winter foraging habitat. We revised the tables in the Final HCP/EIS and the Final EIS analysis to reflect the increase of potential lynx habitat.

In the Final HCP, DNRC revised the aquatic riparian timber harvest strategy to widen the no-harvest buffer along streams from 25 feet to 50 feet (8m to 15m) and expand the number of streams subject to HCP prescriptions from just streams bearing the fish species covered by the HCP to all fish-bearing streams. The EIS analysis was also revised to reflect these changes.

National Environmental Policy Act Compliance

Our proposal to issue a Permit is a Federal action that triggers the need for compliance with NEPA. Accordingly, as the Federal agency responsible for compliance under NEPA, we have prepared an EIS that analyzes alternatives associated with issuance of the Permit. In addition to the proposed Permit issuance alternative, other alternatives we considered in the EIS include the “No Action” alternative, an “Increased Conservation” alternative, and an “Increased Management Flexibility” alternative. The “No Action” alternative would reflect continued implementation of the DNRC's existing rules and regulations. The “increased conservation” alternative contains expanded conservation commitments relative to those in the proposed HCP. The “Increased Management Flexibility” alternative contains commitments that would allow for smaller habitat areas for some species and longer timelines for implementation relative to the proposed HCP.

The Final EIS includes all comments we received on the Draft EIS and our responses to those comments. After the 30-day waiting period, we will complete a Record of Decision that announces our decision on which action to take and discusses all factors leading to the decision.

Public Involvement

The Service initiated an environmental review of the project through publication of a notice of intent to prepare an EIS in the Federal Register on April 26, 2003 (68 FR 22412). Beginning April 28, 2003, the DNRC and the Service held a 60-day scoping period for the proposed HCP and EIS to gather public comments on the proposed action. In October 2005, the DNRC opened a 45-day public review period to allow interested parties to review and comment on the conservation strategies. On June 26, 2009, we published a notice of availability in the Federal Register (74 FR 30617) of the Draft EIS/HCP. The draft documents were available for public review and comment for a 90-day period ending on October 9, 2009.

Public Review

Copies of the Final HCP/EIS, and Implementing Agreement are available for review (see Availability of Documents). Any comments we receive will become part of the administrative record and may be available to the public. Before submitting comments that include your address, telephone number, e-mail address, or other personal identifying information, you should be aware that your entire comment, including your personal identifying information, may be made publicly available at any time. While you may ask us in your comment to withhold your personal identifying information from public review, we cannot guarantee that we will be able to do so.

We will evaluate the application, associated documents, and comments submitted to determine whether the application meets the requirements of section 10(a) of the Act. We will make a permit decision no sooner than 30 days after the publication of the EPA's Final EIS notice in the Federal Register and our completion of a biological opinion under section 7 of the Act and the Record of Decision.

Dated: August 24, 2010.
Hugh Morrison,
Acting Regional Director.

[FR Doc. 2010-23099 Filed 9-16-10; 8:45 am]

BILLING CODE 4310-55-P